ENVIRONMENTAL PROTECTION AGENCY

[ER-FRL-8595-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated July 17, 2009 (74 FR 34754).

Draft EISs

EIS No. 20080242, ERP No. D-BLM-D65040-WV, East Lynn Lake Coal Lease Project, Proposal to Lease Federal Coal That Lies Under Nine Tracts of Land for Mining, Wayne County, WV.

Summary: EPA expressed environmental objections about adverse impacts to water quality and aquatic life. EPA recommends the development of an alternative that incorporates a larger, more conservative and protective buffer between potential mining operations and the existing earthen dam. EPA requested additional information on past and current water quality and quality impairments. Rating EO2.

EIS No. 20080385, ERP No. D-FTA-D54042-MD, Red Line Corridor Transit Study, Alternatives Analysis, Implementation of a New East-West Transit Alignment through Baltimore, Baltimore County, MD.

Summary: EPA does not object to the proposed action. Rating LO.

EIS No. 20080422, ERP No. D-FTA-D54043-MD, Purple Line Transit Project, Proposed 16-Mile Rapid Transit Line Extending from Bethesda in Montgomery County to New Carrollton in Prince George's County, MD.

Summary: EPA does not object to the proposed action. Rating LO.

EIS No. 20090154, ERP No. D-NPS-E65083-AL, Tuskegee Airmen National Historic Site, General Management Plan, Implementation, Tuskegee, AL.

Summary: While EPA has no objections to the proposed action, it suggested the use of Best Management Practices. Rating LO.

Final EISs

EIS No. 20090158, ERP No. F-FHW-F40435-IL, Illinois Route 29 (FAP 318) Corridor Study, Transportation Improvement from Illinois 6 to Interstate 180, Funding and US Army COE Section 404 Permit, Peoria, Marshall, Putnam and Bureau Counties, IL.

Summary: EPA continues to have environmental concerns about wetland and habitat impacts, and requested that the Record of Decision include more information on mitigation measures to reduce erosion and wildlife crossings.

EIS No. 20090193, ERP No. F-AFS-F65072-WI, Camp Four Vegetation Project, Proposes Vegetation and Road Management Activities, Desired Future Condition (DFC), Medford-Park Falls Ranger District, Chequamegon-Nicolet National Forest, Price County, WI.

Summary: EPA does not object to the proposed action.

EIS No. 20090194, ERP No. F-AFS-K65342-CA, Moonlight and Wheeler Fires Recovery and Restoration Project, Analysis of the No-Action and Action Alternatives, Mt. Hough Ranger District, Plumas National Forest, Plumas County, CA.

Summary: EPA continues to have environmental concerns about adverse impacts to watersheds, and recommended that the action avoid California spotted owl home range core areas and protected activity centers, minimize new road construction, and use all practical methods to minimize emissions during construction.

EIS No. 20090195, ERP No. F-COE-G39051-LA, Mississippi River-Gulf Outlet (MRGO), Louisiana, and Lake Borgne Wetland Creation and Shoreline Protection Project, Proposes to Construct Shoreline Protection Features Along the Lake Borgne Shoreline to Restore and Nourish Wetlands, Lake Borgne, LA.

Summary: EPA's previous comments were adequately addressed; therefore, EPA does not object to the proposed action.

Dated: July 28, 2009.
Robert W. Hargrove,
Director, NEPA Compliance Division, Office of Federal Activities.

[FR Doc. E9-18349 Filed 7-30-09; 8:45 am]

BILLING CODE 6560-50-P